Title 3—

The President

Proclamation 8974 of May 1, 2013

National Day of Prayer, 2013

By the President of the United States of America

A Proclamation

Americans have long turned to prayer both in times of joy and times of sorrow. On their voyage to the New World, the earliest settlers prayed that they would “rejoice together, mourn together, labor, and suffer together, always having before our eyes our commission and community in the work.” From that day forward, Americans have prayed as a means of uniting, guiding, and healing. In times of hardship and tragedy, and in periods of peace and prosperity, prayer has provided reassurance, sustenance, and affirmation of common purpose.

Prayer brings communities together and can be a wellspring of strength and support. In the aftermath of senseless acts of violence, the prayers of countless Americans signal to grieving families and a suffering community that they are not alone. Their pain is a shared pain, and their hope a shared hope. Regardless of religion or creed, Americans reflect on the sacredness of life and express their sympathy for the wounded, offering comfort and holding up a light in an hour of darkness.

All of us have the freedom to pray and exercise our faiths openly. Our laws protect these God-given liberties, and rightly so. Today and every day, prayers will be offered in houses of worship, at community gatherings, in our homes, and in neighborhoods all across our country. Let us give thanks for the freedom to practice our faith as we see fit, whether individually or in fellowship.

On this day, let us remember in our thoughts and prayers all those affected by recent events, such as the Boston Marathon bombings, the Newtown, Connecticut shootings, and the explosion in West, Texas. Let us pray for the police officers, firefighters, and other first responders who put themselves in harm's way to protect their fellow Americans. Let us also pray for the safety of our brave men and women in uniform and their families who serve and sacrifice for our country. Let us come together to pray for peace and goodwill today and in the days ahead as we work to meet the great challenges of our time.

The Congress, by Public Law 100-307, as amended, has called on the President to issue each year a proclamation designating the first Thursday in May as a “National Day of Prayer.”

NOW, THEREFORE, I, BARACK OBAMA, President of the United States of America, by virtue of the authority vested in me by the Constitution and the laws of the United States, do hereby proclaim May 2, 2013, as a National Day of Prayer. I join the citizens of our Nation in giving thanks, in accordance with our own faiths and consciences, for our many freedoms and blessings, and in asking for God's continued guidance, mercy, and protection.

IN WITNESS WHEREOF, I have hereunto set my hand this first day of May, in the year of our Lord two thousand thirteen, and of the Independence of the United States of America the two hundred and thirty-seventh.

[FR Doc. 2013-10878

Filed 5-3-13; 11:15 am]

Billing code 3295-F3